DEPARTMENT OF THE INTERIOR

Bureau of Land Management

[WY-030-2000-1060-JJ]

Notice of Intent to Remove Stray Wild Horses

AGENCY: Bureau of Land Management, Interior.

SUMMARY: The Wild, Free Roaming Horse and Burro Act (PL 92-195) requires, among other things, that wild horses that exceed the Appropriate Management Levels established for them be removed. In order to accomplish that, the Rawlins Field Office of the Bureau of Land Management (BLM) plans to remove approximately 300-400 excess horses from the Stewart Creek Herd Management Area (HMA). The removal is scheduled to begin on or about February 15, 2001, and conclude on or about April 1, 2001. The Appropriate Management Level for the Stewart Creek HMA is 150. At least 150 horses will remain in the Stewart Creek HMA after the removal is completed.

Wild Horse populations in the nearby Lost Creek, Green Mountain, and Crooks Mountain HMAs will not be directly affected by this removal and will remain within the AMLs established for them.

A detailed Gather Plan, Environmental Analysis (EA), and Record of Decision for this removal are available on request from: Chuck Reed, Bureau of Land Management, Rawlins Field Office 1300 North Third Street, P.O. Box 2047, Rawlins, WY 82301, (307) 328-4213, email: Chuck_Reed@blm.gov.

These documents are also available for review on the BLM website at www.wy.blm.gov/nepa/nfnepahome.html.

This removal action represents continued implementation of decisions previously communicated through Decision Records WY-037-EA4-121/122 dated July 11, 1994; and WY-030-EA0-037 dated February 25, 2000.

FOR FURTHER INFORMATION CONTACT: For further information please contact the Bureau of Land Management, Rawlins Field Office, 1300 North Third Street, P.O. Box 2407, Rawlins, WY 82301, (307) 328-4200.

Kurt J. Kotter,
Field Manager.

[FR Doc. 00-21209 Filed 8-31-00; 8:45 am]

BILLING CODE 4310-22-P